DEPARTMENT OF DEFENSE

Office of the Secretary

Availability of the Fiscal Year 2008 Defense Commissary Agency (DeCA) Services Contract Inventory

AGENCY: Defense Commissary Agency, DoD.

ACTION: Notice of availability.

SUMMARY: In accordance with Section 2330a of Title 10 United States Code as amended by the National Defense Authorization Act for Fiscal Year 2008 (NDAA 08) Section 807, the DeCA Director of Contracting, in coordination with the Office of the Director, Defense Procurement and Acquisition Policy, Office of Strategic Sourcing (DPAP/SS) will make available to the public the first inventory of activities performed pursuant to contracts for services. The inventory will be published to the DeCA Web site at the following location: http://www.commissaries.com/business/services.cfm.

DATES: Inventory to be made publicly available within 30 days of publication of this notice.

ADDRESSES: Send written comments or suggestions concerning the inventory to Ms. Cindy Hildner, Directorate of Contracting (AMP), Defense Commissary Agency, 1300 E Avenue, Fort Lee, VA 23801-1800.

FOR FURTHER INFORMATION CONTACT: Ms. Cindy Hildner, (804) 734-8000, extension 4-8483, or cindy.hildner@deca.mil.

SUPPLEMENTARY INFORMATION: NDAA 08, Section 807 amends Section 2330a of Title 10 United States Code to require annual inventories and reviews of activities performed on services contracts. The Deputy Under Secretary of Defense (Acquisition and Technology) (DUSD(AT)) transmitted the DeCA inventory to Congress on September 29, 2009.

The DeCA Director of Contracting submitted the DeCA Fiscal Year 2008 Services Contract Inventory to the Office of the DPAP/SS on August 28, 2009. Included with this inventory was a narrative that describes the methodology for data collection, the inventory data, and the plan for review of this inventory. The narrative and cover letters may be downloaded in electronic form (.pdf file) from the following location: http://www.commissaries.com/business/services.cfm. The inventory does not include contract numbers, contractor identification, or other proprietary or sensitive information as these data can be used to disclose a contractor's proprietary proposal information.

Dated: October 21, 2009.
Patricia L. Toppings,
OSD Federal Register Liaison Officer, Department of Defense.

[FR Doc. E9-25762 Filed 10-26-09; 8:45 am]

BILLING CODE 5001-06-P